DEPARTMENT OF COMMERCE

National Oceanic and Atmospheric Administration

[I.D. 012903D]

Marine Mammals; File No. 859-1680

AGENCY: National Marine Fisheries Service (NMFS), National Oceanic and Atmospheric Administration (NOAA), Commerce.

ACTION: Issuance of permit.

SUMMARY: Notice is hereby given that the United States Air Force, Environmental Management Office, Vandenberg Air Force Base, CA 93437 has been issued a permit to take California sea lions (Zalophus californianus), northern elephant seals (Mirounga angustirostris), northern fur seals (Callorhinus ursinus), and Pacific harbor seals (Phoca vitulina richardsi) for purposes of scientific research.

ADDRESSES: The permit and related documents are available for review upon written request or by appointment in the following office(s):

Permits, Conservation and Education Division, Office of Protected Resources, NMFS, 1315 East-West Highway, Room 13705, Silver Spring, MD 20910; phone (301)713-2289; fax (301)713-0376; and

Southwest Region, NMFS, 501 West Ocean Blvd., Suite 4200, Long Beach, CA 90802-4213; phone (562)980-4001; fax (562)980-4018.

FOR FURTHER INFORMATION CONTACT: Tammy Adams or Amy Sloan, (301)713-2289.

SUPPLEMENTARY INFORMATION: On October 10, 2002, notice was published in the Federal Register (67 FR 63079) that a request for a scientific research permit to take the above listed species had been submitted by the above-named organization. The requested permit has been issued under the authority of the Marine Mammal Protection Act of 1972, as amended (16 U.S.C. 1361 et seq.), the Regulations Governing the Taking and Importing of Marine Mammals (50 CFR part 216), and the Fur Seal Act of 1966, as amended (16 U.S.C. 1151 et seq.).

The permit is valid for 5 years and authorizes annual takes of up to 1200 California sea lions, 750 northern elephant seals, 300 northern fur seals, and 700 harbor seals inhabiting Vandenberg Air Force Base and the northern Channel Islands annually by harassment during various activities including capture, sedation, blood sampling, skin biopsy, physiological measurements, hearing sensitivity tests, attachment of scientific instruments, temporary captive maintenance, recapture for retrieval of instruments, surveys of abundance and distribution, incidental harassment, and accidental mortality. The movements and foraging behavior of seals exposed to launch noise and/or sonic booms will be compared with non-exposed control animals using remote VHF radio-telemetry, satellite transmitters, and electronic data loggers.

Dated: February 3, 2003.
Stephen L. Leathery,
Chief, Permits, Conservation and Education Division, Office of Protected Resources, National Marine Fisheries Service.

[FR Doc. 03-3086 Filed 2-6-03; 8:45 am]

BILLING CODE 3510-22-S